DEPARTMENT OF HEALTH AND HUMAN SERVICES

Office of Refugee Resettlement

Award of an Urgent Single-Source Grant to Heartland Alliance, Chicago, IL

AGENCY: Office of Refugee Resettlement, ACF, HHS.

ACTION: Notice.

CFDA Number: 93.676.

Statutory Authority: Awards announced in this notice are authorized by Section 412 (c)(1)(A) of the Immigration and Nationality Act (INA) (8 U.S.C. 1522(c)(1)(A), as amended, and the Refugee Assistance Extension Act of 1986, Public Law 99-605, Nov 6, 1986, 100 Stat. 3449.

Project Period: June 1, 2011-May 31, 2012.

SUMMARY: The Administration for Children and Families (ACF), Office of Refugee Resettlement (ORR) announces the award of a single-source grant for training and technical assistance on incoming Lesbian, Gay, Bi-Sexual and Transgender (LGBT) refugee cases to Heartland Alliance, Chicago, IL, for a total of $250,000. The additional funding provided by the award will support services to refugees through May 31, 2012.

The current resettlement network has limited understanding of the issues and subgroups. Heartland Alliance will develop training and technical assistance resources, including capacity building and service delivery, specifically targeted at assisting newly arriving LGBT refugees.

Heartland Alliance will have the opportunity to receive a continuation award at the same amount in FY 2012, which will provide the grantee with a two-year project period.

FOR FURTHER INFORMATION CONTACT: Kenneth Tota, Deputy Director, Office of Refugee Resettlement, Administration for Children and Families, 370 L'Enfant Promenade, SW., Washington, DC 20447, Telephone (202) 401-4858.

Dated: June 10, 2011.
Eskinder Negash,
Director, Office of Refugee Resettlement.

[FR Doc. 2011-14841 Filed 6-14-11; 8:45 am]

BILLING CODE 4120-27-P